DEPARTMENT OF ENERGY

Federal Energy Regulatory Commission

Combined Notice of Filings #1

Take notice that the Commission received the following electric corporate filings:

Docket Numbers: EC12-131-000.

Applicants: Spion Kop Wind, LLC.

Description: Application for Authorization of Transaction Pursuant to Section 203 of the Federal Power Act and Request for Expedited Consideration and Waivers of Spion Kop Wind, LLC.

Filed Date: 8/7/12.

Accession Number: 20120807-5156.

Comments Due: 5 p.m. ET 8/28/12.

Take notice that the Commission received the following electric rate filings:

Docket Numbers: ER12-1933-002.

Applicants: Interstate Power and Light Company.

Description: IPL Market-Based Rate Tariff—Revised to be effective 8/1/2012.

Filed Date: 7/26/12.

Accession Number: 20120726-5102.

Comments Due: 5 p.m. ET 8/16/12.

Docket Numbers: ER12-1946-000; ER12-1948-000; ER12-1951-000; ER12-1954-000; ER12-1956-000; ER12-1958-000; ER12-1959-000; ER12-1961-000.

Applicants: Duke Energy Beckjord, LLC, Duke Energy Conesville, LLC, Duke Energy Dicks Creek, LLC, Duke Energy Killen, LLC, Duke Energy Miami Fort, LLC, Duke Energy Piketon, LLC, Duke Energy Stuart, LLC, Duke Energy Zimmer, LLC.

Description: Response to Staff Request for Additional Detail of Duke Energy Beckjord, LLC, et al.

Filed Date: 8/8/12.

Accession Number: 20120808-5075.

Comments Due: 5 p.m. ET 8/29/12.

Docket Numbers: ER12-2420-000.

Applicants: Southwest Power Pool, Inc.

Description: 2465 Owl Feather War Bonnet, LLC GIA to be effective 7/30/2012.

Filed Date: 8/7/12.

Accession Number: 20120807-5151.

Comments Due: 5 p.m. ET 8/28/12.

Docket Numbers: ER12-2421-000.

Applicants: PJM Interconnection, L.L.C.

Description: Original Service Agreement No. 3357; Queue No. X2-035 to be effective 7/20/2012.

Filed Date: 8/8/12.

Accession Number: 20120808-5044.

Comments Due: 5 p.m. ET 8/29/12.

Docket Numbers: ER12-2422-000.

Applicants: Prairie Rose Transmission, LLC.

Description: Prairie Rose Transmission, LLC submits tariff filing per 35.1: Prairie Rose Transmission, LLC TSA to be effective 10/1/2012.

Filed Date: 8/8/12.

Accession Number: 20120808-5078.

Comments Due: 5 p.m. ET 8/29/12.

Docket Numbers: ER12-2423-000.

Applicants: PJM Interconnection, L.L.C.

Description: PJM Interconnection, L.L.C. submits tariff filing per 35.13(a)(2)(iii: Original Service Agreement No. 3378; Queue Nos. W2-010 & W2-011 to be effective 7/9/2012.

Filed Date: 8/8/12.

Accession Number: 20120808-5083.

Comments Due: 5 p.m. ET 8/29/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2012.
Nathaniel J. Davis, Sr.,
Deputy Secretary.

[FR Doc. 2012-19998 Filed 8-14-12; 8:45 am]

BILLING CODE 6717-01-P